DEPARTMENT OF THE INTERIOR

Office of the Secretary

Invasive Species Advisory Committee

AGENCY: Office of the Secretary, Interior.

ACTION: Notice of public meetings of the Invasive Species Advisory Committee and Invasive Species Council.

SUMMARY: Pursuant to the provisions of the Federal Advisory Committee Act, notice is hereby given of meetings of the Invasive Species Advisory Committee and the Invasive Species Council. The purpose of the Advisory Committee is to provide advice to the Council, as authorized by Executive Order 13112, on a broad array of issues related to preventing the introduction of invasive species and providing for their control and minimizing the economic, ecological, and human health impacts that invasive species cause. The Council is Co-chaired by the Secretary of the Interior, the Secretary of Agriculture, and the Secretary of Commerce. The duty of the Council is to provide national leadership regarding invasive species issues. The purpose of a meeting on May 17 is to convene the full Advisory Committee and receive reports from the six working groups established to provide input for the National Invasive Species Management Plan. A second meeting on May 18 is the first joint meeting of the Advisory Committee and the Council. The meetings will be open to the public. Attendance will be limited to space available.

DATES: Meeting of Invasive Species Advisory Committee: 9 a.m., Wednesday, May 17, 2000; Meeting of Invasive Species Advisory Committee and Council: 1 p.m., Thursday, May 18, 2000.

ADDRESSES: Doubletree Hotel National Airport, 300 Army Navy Drive, Arlington, VA 22202. Committee Meeting will be held in the Commonwealth Room, Joint Committee/Council Meeting will be held in the Washington Room.

FOR FURTHER INFORMATION CONTACT: Kelsey Passé, National Invasive Species Council Program Analyst; E-mail: kelsey_passe@ios.doi.gov; Phone: (202) 208-6336; Fax: (202) 208-1526.

Dated: May 1, 2000.
A. Gordon Brown,
Co-Executive Director, National Invasive Species Council.

[FR Doc. 00-11197 Filed 5-4-00; 8:45 am]

BILLING CODE 4310-RK-P